DEPARTMENT OF ENERGY

Federal Energy Regulatory Commission

[Docket No. IC21-30-000, RD20-4-000]

Commission Information Collection Activities (FERC-725G); Comment Request; Extension

AGENCY: Federal Energy Regulatory Commission; Department of Energy.

ACTION: Notice of information collection and request for comments.

SUMMARY: In compliance with the requirements of the Paperwork Reduction Act of 1995, the Federal Energy Regulatory Commission (Commission or FERC) is soliciting public comment on a renewal of currently approved information collection, FERC 725G (Mandatory Reliability Standards for the Bulk-Power System: PRC Reliability Standards), which will be submitted to the Office of Management and Budget (OMB) for review.

DATES: Comments on the collection of information are due September 8, 2021.

ADDRESSES: Send written comments on FERC-725-G to OMB through www.reginfo.gov/public/do/PRAMain. Attention: Federal Energy Regulatory Commission Desk Officer. Please identify the OMB Control Number (1902-0252) in the subject line of your comments. Comments should be sent within 30 days of publication of this notice to www.reginfo.gov/public/do/PRAMain.

Please submit copies of your comments to the Commission. You may submit copies of your comments (identified by Docket No. IC21-30-000) by one of the following methods:

Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection. FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

Title: FERC-725G (Mandatory Reliability Standards for the Bulk-Power System: Regional Reliability Standard PRC standards: PRC-006-5 Automatic Underfrequency Load-Shedding (UFLS), PRC-002-2, PRC-012-2, PRC-019-2, PRC-023-4, PRC-024-1, PRC-025-2, PRC-026-1, and PRC-027-1.

OMB Control No.: 1902-0252.

Type of Request: Revisions and extension to the information collection, as discussed in Docket No. RD20-4-000.

Abstract: On August 8, 2005, Congress enacted into law the Electricity Modernization Act of 2005, which is Title XII, Subtitle A, of the Energy Policy Act of 2005 (EPAct 2005).¹ EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.²

¹ Energy Policy Act of 2005, Public Law 109-58, Title XII, Subtitle A, 119 Stat. 594, 941 (codified at 16 U.S.C. 824o).

² 16 U.S.C. 824o(e)(3).

The information collected by the FERC-725G is required to implement the statutory provisions of section 215 of the Federal Power Act (FPA).² Section 215 of the FPA buttresses the Commission's efforts to strengthen the reliability of the interstate bulk power grid.

The FERC-725G information collection currently contains the reporting and recordkeeping requirements for the following Reliability Standards: PRC-002-2, PRC-006-5, PRC-012-2, PRC-019-2, PRC-023-4, PRC-024-1, PRC-025-2, PRC-026-1, and PRC-027-1.

• PRC-002-2 Disturbance Monitoring and Reporting Requirements

The purpose is to have adequate data available to facilitate analysis of Bulk Electric System (BES) Disturb.

• PRC-006-5 Automatic Underfrequency Load Shedding

To establish design and documentation requirements for automatic Underfrequency Load Shedding (UFLS) programs to arrest declining frequency, assist recovery of frequency following underfrequency events and provide last resort system preservation measures.

• PRC-012-2 Remedial Action Schemes

To ensure that Remedial Action Schemes (RAS) do not introduce unintentional or unacceptable reliability risks to the Bulk Electric System (BES).

• PRC-019-2 Coordination of Generating Unit or Plant Capabilities, Voltage Regulating Controls, and Protection

The purpose is to verify coordination of generating unit Facility or synchronous condenser voltage regulating controls, limit functions, equipment capabilities and Protection System settings.

• PRC-023-4 Transmission Relay Load-Ability

Protective relay settings shall not limit transmission load-ability; not interfere with system operators' ability to take remedial action to protect system reliability and; be set to reliably detect all fault conditions and protect the electrical network from these faults.

• PRC-024-1 Generator Frequency and Voltage Protective Relay Settings

The purpose is to ensure Generator Owners set their generator protective relays such that generating units remain connected during defined frequency and voltage excursions.

• PRC-025-2 Generator Relay Load-Ability

The purpose is to set load-responsive protective relays associated with generation Facilities at a level to prevent unnecessary tripping of generators during a system disturbance for conditions that do not pose a risk of damage to the associated equipment.

• PRC-026-1 Relay Performance During Stable Power Swings

The purpose is to ensure that load-responsive protective relays are expected to not trip in response to stable power swings during non-Fault conditions.

• PRC-027-1 Coordination of Protection Systems for Performance During Faults

The purpose is to maintain the coordination of Protection Systems installed to detect and isolate Faults on Bulk Electric System (BES) Elements, such that those Protection Systems operate in the intended sequence during Faults.

Each of these Reliability Standards have three components that impose burden upon affected industry:

• Requirements (e.g., denoted in each Reliability Standard as R1, R2 . . .)

• Measures (e.g., denoted in each Reliability Standard as M1, M2 . . .)

• Evidence Retention

These three components can be reviewed for the Reliability Standards in North American Electric Reliability Commission (NERC) petitions in FERC's eLibrary system (http://www.ferc.gov/docs-filing/elibrary.asp) or on NERC's own website (www.nerc.com).

Type of Respondents: Generator owners, Planning coordinators, Distribution providers, UFLS-only Distribution Providers, and transmission owners in the Northeast Power Coordinating Council (NPCC) Region.

Estimate of Annual Burden: ³ Our estimates are based on the NERC Compliance Registry Summary of Entities as of February 5, 2021. According to the NERC compliance registry, and functions as of, which indicates there are registered as GO, PC, DP and TO entities. The individual burden estimates are based on the time needed to gather data, run studies, and analyze study results to design or update the underfrequency load shedding programs. Additionally, documentation and the review of underfrequency load shedding (UFLS) program results by supervisors and management is included in the administrative estimations. These are consistent with estimates for similar tasks in other Commission approved standards.

³ Burden is defined as the total time, effort, or financial resources expended by persons to generate, maintain, retain, or disclose or provide information to or for a federal agency. See 5 CFR 1320 for additional information on the definition of information collection burden.

RD20-4 (PRC-006-4)

The revisions in the proposed Reliability Standards will align these standards with the previously approved changes to the NERC registration criteria ⁴ by removing reference to entities ⁵ that are no longer registered with NERC. In proposed Reliability Standard PRC-006-4, NERC adds the UFLS-only Distribution Provider as an applicable entity. In two instances, NERC has proposed changes that will promote consistent use of the term Planning Coordinator across the Reliability Standards.⁶

⁴ Order on Electric Reliability Organization Risk Based Registration Initiative and Requiring Compliance Filing, 150 FERC ¶ 61,213 (2015); Order on Compliance Filing, 153 FERC ¶ 61,024 (2015).

⁵ NERC's risk-based registration initiative resulted in the removal of the load-serving entity and purchasing-selling entity from the NERC compliance registry.

⁶ Standards Alignment with Registration Petition at 7.

The Commission's request to OMB will reflect the following:

• Addition to the burden associated with UFLS-only distribution providers to proposed (in RD-20-4) Reliability Standard PRC-006-4.⁷ The petition states that the currently effective standard is applicable to planning coordinators, “UFLS entities” (which may include transmission owners and distribution providers that own, operate, or control UFLS equipment), and transmission owners that own certain elements. In proposed Reliability Standard PRC-006-4, NERC proposes to add the UFLS-only distribution provider as an applicable UFLS entity.⁸

⁷ The burden associated with the Commission approved standard, PRC-006-3, is included in FERC-725G.

⁸ Standards Alignment with Registration Petition at 13.

• Current Reliability Standard PRC-006-5 ⁹ (formerly PRC-006-3) (Automatic Underfrequency Load Shedding).

⁹ PRC-006-5 was approved April 1, 2021 in RM21-1 which did not trigger the PRA and therefore did not require prior OMB approval. The current version of this standard, PRC-006-5, was approved by the Commission on April 1, 2021. The only change was a revision to the regional variance for the WECC region for PRC-006-4 modifications that needs to be approved through OMB.

The following table outline net changes in burden hours and responses as a result of Docket No. RD20-4.

RD20-4 Net Changes for FERC-725G, OMB Control No. 1902-0252
PRC regional reliability standards | Average annual number ¹ of respondents | Average annual number of responses per respondent | Average annual total number of responses | Average annual burden hrs. per response | Total annual burden hours
| (1) | (2) | (1) * (2) = (3) | (4) |
PRC-006-4 (Automatic Underfrequency Load Shedding) Reporting Requirement—program decrease ¹⁰ | −80 (TO & DP) | 1 | −80 | 47 | −3,760.
PRC-006-4 (Automatic Underfrequency Load Shedding) Evidence Retention—program decrease ¹⁴ | −80 (TO & DP) | 1 | −80 | 5 | −400.
PRC-006-4 (Automatic Underfrequency Load Shedding) R1-R7, R11-R15 Reporting Requirement—program increase & clarification ¹¹ | 64 (PC) | 1 | 64 | 47 | 3,008.
PRC-006-4 (Automatic Underfrequency Load Shedding) R1-R7, R11-R15 Evidence Retention-program increase & clarification ¹⁴ | 64 (PC) | 1 | 64 | 5 | 320.
PRC-006-4 (Automatic Underfrequency Load Shedding) R8-R10 Evidence Retention—program increase & clarification ¹² | 478 (TO, DP, UFLS-only DP) | 1 | 478 | 5 | 2,390.
Net Changes for FERC-725G due to RD20-4 |  |  | 446 (net increase) |  | 1,558 hrs. (net increase).

The Commission estimates the annual burden and cost ¹³ for the information collection as follows:

¹⁰ The number of entities is being reduced in order to more clearly identify the applicable entities in subsequent rows in this table. As stated in the NERC Petition, “[t]he currently effective standard is applicable to Planning Coordinators, “UFLS entities” (which may include Transmission Owners and Distribution Providers that own, operate, or control UFLS equipment), and Transmission Owners that own certain Elements. In proposed Reliability Standard PRC-006-4, NERC proposes to add the UFLS-Only Distribution Provider as an applicable UFLS entity, consistent with the language in Section III(b) of Appendix 5B of the NERC Rules of Procedure (Statement of Compliance Registry Criteria) that the Reliability Standards applicable to UFLS-Only Distribution Providers includes prior effective versions of the PRC-006 standard.” The changes are not due to Docket No. RD20-4-000.

¹¹ The increases are not due to Docket No. RD20-4-000. They are a program increase of 64 PCs (and the corresponding hrs.) in order to correct and clarify the estimates.

¹² The program increase is due to adding 63 UFLS-only DPs due to Docket No. RD20-4-000. In addition, 415 TOs and DPs were originally estimated in FERC-725A due to Order No. 693. However, the estimates and descriptions were not clearly spelled out, so we are clarifying them. As a result, there are 315 hours (63*5 hours) and the corresponding increase of 63 respondents of program increase due to Docket No. RD20-4-000, and 2,075 hours (415*5 hours) of increase due to adjustment.

¹³ The Commission staff estimates that the average respondent for this collection is similarly situated to the Commission, in terms of salary plus benefits. Based on FERC's 2020 annual average of $172,329 (for salary plus benefits), the average hourly cost is $83/hour.

IC21-30-000 Renewal as Effected by RD20-4-000: Mandatory Reliability Standards for the Bulk-Power System: Regional Mandatory Reliability Standards for the Bulk-Power System: Regional Reliability Standard PRC Standards: PRC-006-5, PRC-002-2, PRC-012-2, PRC-019-2, PRC-023-4, PRC-024-1, PRC-025-2, PRC-026-1, and PRC-027 14
Reliability standard & requirement | Average annual number ¹ of respondents | Average annual number of responses per respondent | Average annual total number of responses | Average annual burden hrs. & cost ($) per response | Total average annual burden hours & cost ($) (rounded) | Cost per respondent ($)
| (1) | (2) | (1) * (2) = (3) | (4) | (3) * (4) = (5) | (5) ÷ (1)
PRC-006-5 (Current burden after net changes due to RD20-4)
TO/DP/PC ¹⁵ | 480 | 1 | 480 | 35 hrs.; $2,905 | 16,800 hrs.; $1,394,400 | $2,905
Net Changes for FERC-725G due to RD20-4 |  |  | 926 |  | 18,358 hrs.; $1,523,714 |
PRC-023-4
TO/GO/DP ¹⁶ | 1,314 | 1 | 1,314 | 303 hrs.; $25,149 | 398,142 hrs.; $33,045,786 | 25,149
PC | 65 | 1 | 65 | 212 hrs.; $17,596 | 13,780 hrs.; $1,143,740 | 17,596
PRC-025-217
GO/TO/DP ¹⁸ | 1,314 | 1 | 1,314 | 4 hrs.; $332 | 5,256 hrs.; $436,248 | 332
PRC-019-2
GO/TO | 1,178 | 1 | 1,178 | 8.9 hrs.; $664 | 9,424 hrs.; $782,192 | 664
PRC-024-1
GO | 1,003 | 1 | 1,003 | 8 hrs.; $664 | 8,024 hrs.; $665,992 | 664
PRC-026-1
GO/PC/TO | 1,189 | 1 | 1,189 | 18 hrs.; $1,494 | 21,402 hrs.; $1,776,366 | 1,494
PRC-002-2
TO/GO/PC ¹⁹ | 1,189 | 0.50 | 594.5 | 100 hrs.; $8,300 | 59,450 hrs.; $4,934,350 | 4,150
PRC-012-2
RC/PC/TO/GO/DP | 1,329 | 1 | 1,329 | 88 hrs.; $7,304 | 116,952 hrs.; $9,707,016 | 7,304
PRC-027-1
TO/GO/DP | 1,314 | 1 | 1,314 | 44 hrs.; $3,652 | 57,816 hrs.; $4,798,728 | 3,652
TOTAL for FERC-725G |  |  | 10,226.50 |  | 708,604 hrs.; $58,814,132 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

¹⁴ The number of respondents on this table reflect information taken from NERC Compliance Registry, while it may show a decrease from previous years the 2021 values reflect treating standards as a whole instead of by requirement which allow for aggregate values and eliminating multiple counts of the same entity within a standard.

¹⁵ Using NERC Compliance Registration data (February 5, 2021), the number of respondents are for US unique entities and takes into account the overlap between functions of the DP = Distribution Provider, TO = Transmission Owner and PC = Planning Coordinator for a total of 480.

¹⁶ Using NERC Compliance Registration data (February 5, 2021), the number of respondents are for US unique entities and takes into account the overlap between functions of the DP = Distribution Provider, TO = Transmission Owner and DP = Distribution Provider for a total of 1,314. The number of hours also take into account line terminal work needed to be done applicable TO, GO, or DP as per PRC-023-1 approved in Order No. 773 March 18, 2010.

¹⁷ Reliability Standard PRC-025-2 from FERC-725G2 (OMB No. 1902-0281)- a temporary place holder is now being placed back into 725G.

¹⁸ According to the NERC compliance registry as of February 5, 2021, NERC has registered 379 distribution providers (DP), 1,003 generator owners (GO) and 321 transmission owners (TO). However, under NERC's compliance registration program, entities may be registered for multiple functions, so these numbers incorporate some double counting. The number of unique entities responding will be approximately 994 entities registered as a transmission owner, a distribution provider, or a generator owner that is also a transmission owner and/or a distribution owner. These values reflect removing any year 1-2 costs and covers on-going cost from version PRC-025-1 and PRC-025-2.

¹⁹ Based on the Requirements of PRC-002-2 some entities do not have to perform tasks annual so average response rate is set to 0.50.

Dated: August 3, 2021.
Debbie-Anne A. Reese,
Deputy Secretary.

[FR Doc. 2021-16919 Filed 8-6-21; 8:45 am]

BILLING CODE 6717-01-P